DEPARTMENT OF AGRICULTURE

Submission for OMB Review; Comment Request

November 19, 2012.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: WIC Program Regulations-Reporting and Recordkeeping Burden.

OMB Control Number: 0584-0043.

Summary of Collection: The WIC Program is authorized by the Child Nutrition Act of 1966, as amended, and is administered by State agencies in accordance with WIC program regulations at 7 CFR part 246. This submission incorporates the information collection burden associated with requirements contained in the Healthy Hunger-Free Kids Act of 2010 (Pub. L. 111-296).

Need and Use of the Information: The Food and Nutrition Service (FNS) will collect information that include participant certification information (e.g. income and nutrition risk); nutrition education documentation; local agency and vendor application and agreement information; vendor sales and shelf price data; data related to vendor monitoring and training; and, financial and food delivery system records. The information is needed for the general operation of the Program, including regulatory compliance, and for ongoing program integrity and cost-saving efforts. The information collected is also used by FNS to manage, plan, evaluate, make decisions and report on WIC program operations. If the information were not collected the efficiency and effectiveness of the program would be jeopardized, the likelihood of misuse or improper use of Federal funds would increase, and FNS' ability to detect violations or abusive behavior would diminish greatly.

Description of Respondents: State, Local, or Tribal Government; individuals or households; business or other for-profit; not-for-profit institutions.

Number of Respondents: 9,023,066.

Frequency of Responses: Recordkeeping; Report: Quarterly; semi-annually; annually; biennially.

Total Burden Hours: 4,024,697.

Ruth Brown,
Departmental Information Collection Clearance Officer.

[FR Doc. 2012-28510 Filed 11-23-12; 8:45 am]

BILLING CODE 3410-30-P